ENVIRONMENTAL PROTECTION AGENCY

[FRL-9945-16-OA]

National Environmental Education Advisory Council

AGENCY: Environmental Protection Agency (EPA).

ACTION: Notice.

SUMMARY: The U.S. Environmental Protection Agency (EPA or Agency) office of Public Engagement and Environmental Education is soliciting applications for environmental education professionals for consideration to serve on the National Environmental Education Advisory Council (NEEAC). There are up to eleven vacancies on the Advisory Council that must be filled. Additional avenues and resources may be utilized in the solicitation of applications. In an effort to obtain nominations of diverse candidates, EPA encourages nominations of women and men of all racial and ethnic groups.

DATES: Applications date is extended thru April 29, 2016.

ADDRESSES: Submit non-electronic application materials to Javier Araujo, Designated Federal Officer, National Environmental Education Advisory Council, U.S. Environmental Protection Agency, Office of Public Engagement and Environmental Education (MC 1704A), 1200 Pennsylvania Ave. NW., Room 1426 (WJCN), Washington, DC 20460, Phone: (202) 564-2642, Fax (202) 564-2753, email: araujo.javier@epa.gov.

FOR FURTHER INFORMATION CONTACT: For information regarding this Request for Nominations, please contact Mr. Javier Araujo, Designated Federal Officer, araujo.javier@epa.gov, 202-564-2642, U.S. EPA, Office of Environmental Education, William Jefferson Clinton North Room 1426, 1200 Pennsylvania Avenue NW., Washington, DC 20460.

General Information concerning NEEAC can be found on the EPA Web site at: http://www2.epa.gov/education/national-environmental-education-advisory-council.

SUPPLEMENTARY INFORMATION: The National Environmental Education Act requires that the council be comprised of (11) members appointed by the Administrator of the EPA. Members represent a balance of perspectives, professional qualifications, and experience. The Act specifies that members must represent the following sectors: Primary and secondary education (one of whom shall be a classroom teacher), two members; colleges and universities, two members; business and industry, two members; non-profit organizations, two members; state departments of education and natural resources, two members, and one member to represent senior Americans. Members are chosen to represent various geographic regions of the country, and the Council strives for a diverse representation. The professional backgrounds of Council members should include education, science, policy, or other appropriate disciplines. Each member of the Council shall hold office for a one (1) to three (3) year period. Members are expected to participate in up to two (2) meetings per year and monthly or more conference calls per year. Members of the council shall receive compensation and allowances, including travel expenses at a rate fixed by the Administrator.

Expertise Sought: The NEEAC staff office seeks candidates with demonstrated experience and or knowledge in any of the following environmental education issue areas: (a) Integrating environmental education into state and local education reform and improvement; (b) state, local and tribal level capacity building for environmental education; (c) cross-sector partnerships to foster environmental education; (d) leveraging resources for environmental education; (e) design and implementation of environmental education research; (f) evaluation methodology; professional development for teachers and other education professionals; and targeting under-represented audiences, including low-income, multi-cultural, senior citizens and other adults.

The NEEAC is best served by a structurally and geographically diverse group of individuals. Each individual will demonstrate the ability to make a time commitment. In addition, the individual will demonstrate both strong leadership and analytical skills. Also, strong writing skills, communication skills and the ability to evaluate programs in an unbiased manner are essential. Team players, which can meet deadlines and review items on short notice are ideal candidates.

How to apply: Any interested and qualified individuals may be considered for appointment on the National Environmental Education Advisory Council. In order to apply, the following four items should be submitted in electronic format to the Designated Federal Officer, Javier Araujo, araujo.javier@epa.gov and contain the following: (1) Contact information including name, address, phone and fax numbers and an email address; (2) a curriculum vitae or resume; (3) the specific area of expertise in environmental education and the sector or slot the applicant is applying for; (4) recent service on other national advisory committees or national professional organizations; a one page commentary on the applicant's philosophy regarding the need for, development, implementation and or management of environmental education nationally.

Persons having questions about the application procedure or who are unable to submit applications by electronic means, should contact Javier Araujo (DFO), at the contact information provided above in this notice. Non-electronic submissions must contain the same information as the electronic. The NEEAC staff Office will acknowledge receipt of the application. The NEEAC staff office will develop a short list of candidates for more detailed consideration. The short list candidates will be required to fill out the Confidential Disclosure Form for Special Government Employees serving Federal Advisory Committees at the U.S. Environmental Protection Agency. (EPA form 3110-48). This confidential form allows government officials to determine whether there is a statutory conflict between that person's public responsibilities (which include membership on a Federal Advisory Committee) and private interests and activities and the appearance of a lack of impartiality as defined by Federal regulation. The form may be viewed and downloaded from the following URL address. Please note this form is not an application form. http://intranet.epa.gov/ogc/ethics/EPA3110-48ver3.pdf.

Dated: April 11, 2016.
Sarah Sowell,
Deputy Director, Office of Environmental Education.
Javier Araujo,
Designated Federal Officer.

[FR Doc. 2016-08799 Filed 4-14-16; 8:45 am]

BILLING CODE 6560-50-P